DEPARTMENT OF HOMELAND SECURITY

[DHS Docket No. ICEB-2010-0003]

RIN 1653-ZA08

Extension of Employment Authorization for Haitian F-1 Nonimmigrant Students Experiencing Severe Economic Hardship as a Direct Result of the January 12, 2010 Earthquake in Haiti

AGENCY: U.S. Immigration and Customs Enforcement (ICE), DHS.

ACTION: Notice.

SUMMARY: This notice informs the public of the extension of an earlier notice, which suspended certain requirements for F-1 nonimmigrant students whose country of citizenship is Haiti and who are experiencing severe economic hardship as a direct result of the January 12, 2010 earthquake in Haiti. This notice extends the effective date of that notice. These students will continue to be allowed to apply for employment authorization, work an increased number of hours while school is in session provided that they satisfy the minimum course load requirement, while continuing to maintain their F-1 student status until July 22, 2017.

DATES: This notice is effective August 25, 2015, and will remain in effect until July 22, 2017.

FOR FURTHER INFORMATION CONTACT: Louis Farrell, Director, Student and Exchange Visitor Program, MS 5600, U.S. Immigration and Customs Enforcement, 500 12th Street SW., Washington, DC 20536-5600; email: sevp@ice.dhs.gov, telephone: (703) 603-3400. This is not a toll-free number. Program information can be found at http://www.ice.gov/sevis/.

SUPPLEMENTARY INFORMATION:

What action is DHS taking under this notice?

The Secretary of Homeland Security is exercising authority under 8 CFR 214.2(f)(9) to extend the suspension of the applicability of certain requirements governing on-campus and off-campus employment for F-1 nonimmigrant students whose country of citizenship is Haiti and who are experiencing severe economic hardship as a direct result of the of the January 12, 2010 earthquake in Haiti. See 75 FR 56120 (Sept. 15, 2010) (2010 Haitian F-1 nonimmigrant notice). The original notice was effective from September 15, 2010, until July 22, 2011. Subsequent notices provided for an 18-month extension from July 22, 2011, until January 22, 2013 (76 FR 28997, May 19, 2011); from January 22, 2013, until July 22, 2014 (77 FR 59942, Oct. 1, 2012); and again from July 22, 2014, until January 22, 2016 (79 FR 11805, Mar. 03, 2014). Effective with this publication, suspension of certain requirements involving employment is extended for 18 months from January 22, 2016, until July 22, 2017.

F-1 nonimmigrant students granted employment authorization through the notice will continue to be deemed to be engaged in a “full course of study” for the duration of their employment authorization, provided they satisfy the minimum course load requirement described in the 2010 Haitian F-1 nonimmigrant notice. See 8 CFR 214.2(f)(6)(i)(F).

Who is covered under this action?

This notice applies exclusively to F-1 nonimmigrant students whose country of citizenship is Haiti and who were lawfully present in the United States in F-1 nonimmigrant status on January 12, 2010, under section 101(a)(15)(F)(i) of the Immigration and Nationality Act (INA), 8 U.S.C. 1101(a)(15)(F)(i); and who are—

(1) Enrolled in an institution that is Student and Exchange Visitor Program (SEVP)-certified for enrollment of F-1 students,

(2) Currently maintaining F-1 status, and

(3) Experiencing severe economic hardship as a direct result of the January 12, 2010 earthquake in Haiti.

This notice applies to both undergraduate and graduate students, as well as elementary school, middle school, and high school students. The notice, however, applies differently to elementary school, middle school, and high school students (see the discussion published in the 2010 Haitian F-1 nonimmigrant notice, 75 FR 56120, available at http://www.gpo.gov/fdsys/pkg/FR-2010-09-15/pdf/2010-22929.pdf, in the question, “Does this notice apply to elementary school, middle school, and high school students in F-1 status?”).

F-1 students covered by this notice who transfer to other academic institutions that are SEVP-certified for enrollment of F-1 students remain eligible for the relief provided by means of this notice.

Why is DHS taking this action?

The Department of Homeland Security (DHS) took action to provide temporary relief to F-1 nonimmigrant students whose country of citizenship is Haiti and who experienced severe economic hardship because of the January 12, 2010 earthquake. See 75 FR 56120. That action enabled these F-1 students to obtain employment authorization, work an increased number of hours while school was in session, and reduce their course load, while continuing to maintain their F-1 student status.

The January 12, 2010 earthquake caused extensive damage to Haiti's infrastructure, public health, agriculture, transportation, and educational facilities. While significant progress has been made in living conditions and infrastructure in Haiti, the country continues to struggle with many people still displaced as a result of the earthquake, and it faces ongoing challenges to its overall economic situation. According to the International Organization for Migration (IOM), as of January 9, 2015, approximately 80,000 Haitians remain in temporary camps.¹ For these reasons, among others, Haiti continues to experience significant difficulties as the country strives to recover. F-1 nonimmigrant students whose country of citizenship is Haiti may depend on money from relatives in Haiti who are themselves continuing to recover from the earthquake.

¹ International Organization for Migration (IOM): “Five Years After 2010 Earthquake, Thousands of Haitians Remain Displaced” (Jan. 9, 2015), available at http://www.iom.int/news/five-years-after-2010-earthquake-thousands-haitians-remain-displaced.

The United States is committed to continuing to assist the people of Haiti. DHS is therefore extending the suspension of certain requirements involving employment authorization for certain F-1 nonimmigrant students whose country of citizenship is Haiti and who are continuing to experience severe economic hardship as a result of the earthquake.

How do I apply for an employment authorization under the circumstances of this notice?

F-1 nonimmigrant students whose country of citizenship is Haiti; who were lawfully present in the United States on January 12, 2010; and who are experiencing severe economic hardship because of the January 12, 2010 earthquake may apply for employment authorization under the guidelines described in the 2010 Haitian F-1 nonimmigrant notice. This notice extends the time period during which such F-1 students may seek employment authorization due to the earthquake. It does not impose any new or additional policies or procedures beyond those listed in the original notice. All interested F-1 students should follow the instructions listed in the original notice.

Jeh Charles Johnson,
Secretary.

[FR Doc. 2015-21005 Filed 8-24-15; 8:45 am]

BILLING CODE 9111-28-P